FEDERAL COMMUNICATIONS COMMISSION

47 CFR Part 76

[CS Docket No. 98-132; FCC 99-12]

1998 Biennial Review—Multichannel Video and Cable Television Service

AGENCY: Federal Communications Commission.

ACTION: Final rule; announcement of effective date.

SUMMARY: This document announces the effective date of the rules published on September 5, 2000. Those rules amended the Commission's cable television rules pertaining to the public file, notice and recordkeeping requirements. These rules contained information collection requirements that required the approval of the Office of Management and Budget (“OMB”) before they could become effective. These rule sections have been approved by OMB and become effective on August 28, 2001.

DATES: Sections 76.1622, 76.1713, and 76.1800 published at 65 FR 53610 (September 5, 2000) are effective on August 28, 2001.

FOR FURTHER INFORMATION CONTACT: Sonia Greenaway of the Consumer Protection and Competition Division, Cable Services Bureau at (202) 418-7200 TTY (202) 418-7172.

SUPPLEMENTARY INFORMATION: A summary of the public file, notice, and recordkeeping requirements set forth in Part 76 of the Commission's cable television rules in CS Docket No. 98-132, 1998 Biennial Regulatory Review—Streamlining of Cable Television Services Part 76 Public File and Notice Requirements, Report and Order (FCC 99-12, 14 FCC Rcd 4653 (1999)) was published in the Federal Register at 65 FR 53610 (Sept. 5, 2000). The rules revised and streamlined the public file and notice requirements, and reduced the regulatory burden faced by cable operators. Sections 76.1622, 76.1713, and 76.1800 contained information collection requirements that required approval from OMB before they could become effective. OMB approved the information collection requirements on June 7, 2001. See OMB No. 3060-0981. Accordingly, §§ 76.1622, 76.1713, and 76.1800 become effective on August 28, 2001. This document constitutes publication of the effective date of those sections.

List of Subjects in 47 CFR Part 76

Multichannel video and cable television service.

Federal Communications Commission.
Magalie Roman Salas,
Secretary.

[FR Doc. 01-21626 Filed 8-27-01; 8:45 am]

BILLING CODE 6712-01-P